DEPARTMENT OF ENERGY

Federal Energy Regulatory Commission

[Project No. 11541-000, Idaho]

Atlanta Power Station; Notice of Meeting

March 26, 2002.

A telephone conference will be convened by staff of the Office of Energy Projects on April 2, 2002, at 1 p.m. eastern standard time. It's a follow up meeting was necessary to further clarify our position on the relicensing process for the Atlanta Power Station Hydroelectric Project.

Any person wishing to be included in the telephone conference should contact Gaylord W. Hoisington at (202) 219-2756 or e-mail at gaylord.hoisington@ferc.fed.us. Please notify Mr. Hoisington if you want to be included in the telephone conference.

Magalie R. Salas,
Secretary.

[FR Doc. 02-7747 Filed 3-29-02; 8:45 am]

BILLING CODE 6717-01-P